DEPARTMENT OF DEFENSE

Office of the Secretary

DoDEA Grants to Military Connected Local Educational Agencies for Academic and Support Programs (MCASP)

AGENCY: Department of Defense Education Activity, Department of Defense.

ACTION: FY 2012 Grant program announcement.

SUMMARY: DoDEA seeks full applications from eligible local educational agencies (LEAs).

DATES:

1. Deadline for Transmittal of Full Applications: April 13, 2012.

2. Applications Package/Instructions Available on www.grants.gov: On or about March 1, 2012.

3. Grants Awarded: On or about June 1, 2012.

FOR FURTHER INFORMATION CONTACT: Ms. Fatimah Dozier, Grant Program Manager, DoDEA, email: fatimah.dozier@hq.dodea.edu, telephone: 703-588-3129.

SUPPLEMENTARY INFORMATION:

Funding Opportunity Description

The FY 2012 grants to Military-Connected Local Educational Agencies for Academic and Support Programs (MCASP) aim to strengthen family-school-community relationships and enhance student achievement for military dependent students. Applicants may choose to design their projects with academic goals, family engagement goals, or a combination of both. Projects should focus on no more than two program areas. Academically-focused projects should strengthen teacher content knowledge and skills through sustained professional development and, in most cases, encourage integration of technology into the curriculum. Family engagement and support projects should address the social-emotional needs of military families and aim to improve school climate. However, grant funds must be used for programs that directly support the student, and cannot be used for programs that only support family members.

Awards will be made to local educational agencies (LEAs) on behalf of their eligible school(s). LEAs must have at least a five percent military dependent student enrollment at the district level. Eligible schools must have at least a 15 percent military dependent student enrollment. Although funding is related to military dependent student enrollment, it is expected that the proposed programs will serve all students at the target schools.

The following two caveats should be noted:

• The impact on the military dependent student subgroups should be demonstrable.

• Family/support programs must focus primarily on military dependent students.

The application package may be found at www.militaryk12partners.dodea.edu and www.grants.gov. The full application is due on April 13, 2012.

Definition of Military Dependent Student: The term, military dependent student, is defined as an elementary or secondary school student who is a dependent of a member of the Armed Forces or a civilian employee of the Department of Defense who is employed on Federal property.

Authorization:

• Section 574(d) of Public Law 109-364, as amended; Title 10 U.S.C. Section 2192(b) and Title 10 U.S.C. Section 2193a.

CFDA Number

• CFDA 12.556: Competitive Grants: Promoting K-12 Student Achievement at Military-Connected Schools.

PK-12 Education

Research-based strategies: DoDEA supports research-based programs that aim to increase student achievement; strengthen family, school, and community engagement; and foster a positive school climate for military dependent children. Research-based strategies:

• Are not limited to a research-based curriculum, but may be teaching and learning strategies that often cut across all content areas and all grade levels.

• Include both valid and innovative programs.

Student achievement: Regarding academic programs, LEAs must employ strategies with demonstrated effectiveness in improving student achievement. Achievement should include but is not limited to measurements of performance on state norm- and/or criterion-referenced assessments. Within this context, projects may include research-based programs that promote college and career readiness or provide extended learning opportunities.

Note: It is understood that some curricular areas and grade levels will not have state norm- or criterion-referenced tests to demonstrate need and reveal improvement. However, the LEA must present multiple data sources to demonstrate need and propose a cost-effective plan to demonstrate increased student academic achievement in those areas.

Support programs: Family engagement and support programs must employ strategies to create a positive school climate and address the social-emotional needs of military dependent students. This includes, but is not limited to, guidance counseling, peer support groups, and parental involvement programs.

Priorities

For the FY12 grant program, there are three priorities, and each applicant must include at least one priority area in their project design. Overall, projects should focus on no more than two program areas. While applicants are permitted to choose more than two program areas, submitting an application that addresses additional areas may result in an unfocused program design. No additional points will be assigned to proposals that incorporate more than one of these priority areas. Proposals may include programs outside of these priorities. Program areas are any K-12 academic content support (English, Math, Science, Social Studies, ESL, or Special Education) and military student socio-emotional support.

Priority #1: Science, technology, engineering, and math (STEM): Projects include strategies to infuse STEM principles throughout the curriculum. For example, a project that focuses only on math would not be given priority points for this area. The intent is to encourage STEM-integration across several content areas.

Priority #2: Strategic foreign languages: Projects include establishment or expansion of foreign language learning, specifically less commonly taught languages such as Asian/Pacific languages and Middle Eastern languages. Programs under this priority may include virtual learning, intensive summer instruction for teachers and students, and immersion courses.

Priority #3: Parent, family, and community engagement: Projects include ongoing, systemic strategies for parent and family engagement. Strategies may include parent training and support, resources and materials, and community involvement activities. Grant funds must be used for programs that directly support the student, and cannot be used for programs that only support family members.

In addition, there are two competitive priorities:

High concentration of military dependent students: An applicant may receive five additional points if one or more of the eligible schools have a military dependent student enrollment of 50 percent or more.

New applicants: Applicants may receive five additional points if the LEA has never previously received a DoDEA grant award.

Eligibility

Applicants are limited to LEAs that have at least a 5 percent military dependent student enrollment at the district level. Eligible schools within the district must have at least a 15 percent military dependent student enrollment. Although funding is related to military dependent student enrollment, it is expected that the proposed programs will serve all students at the target schools. Funds may be used for programs at any grade level.

Current DoDEA grant recipients are eligible to apply for a FY 2012 MCASP grant if they have eligible schools that are not named (that is, not receiving services) from any of their existing DoDEA grant awards, unless the current grant is scheduled to end on August 31, 2012.

Funding Formula

The funding formula is based on the number of military dependent students at eligible (target) school(s). For example, an LEA with 101-200 students may propose any amount between $135,000 and $270,000. The dollar figures below are for the entire 3-year grant period.

Total military dependent students at target school(s) | Minimum award ($) | Maximum award ($)
100 or fewer | $100,000 | $135,000
101-200 | 135,000 | 270,000
201-300 | 270,000 | 405,000
301-400 | 405,000 | 540,000
401-500 | 540,000 | 675,000
501-600 | 675,000 | 810,000
601-700 | 810,000 | 945,000
701-800 | 945,000 | 1,080,000
801-900 | 1,080,000 | 1,215,000
901-1,000 | 1,215,000 | 1,350,000
1,001-1,100 | 1,350,000 | 1,485,000
1,101-1,200 | 1,485,000 | 1,620,000
1,201-1,300 | 1,620,000 | 1,755,000
1,301-1,400 | 1,755,000 | 1,890,000
1,401-1,500 | 1,890,000 | 2,025,000
1,501-1,600 | 2,025,000 | 2,160,000
1,601-1,700 | 2,160,000 | 2,295,000
Above 1,700 | 2,295,000 | 2,500,000

Award Information

Project Period: June 1, 2012 to August 31, 2015.

Estimated Available Funds: $25,000,000.

Estimated Range of Awards: $100,000 to $2,500,000.

Estimated Average Award Size: $1,000,000.

Estimated Number of Awards: 30.

Minimum Award: $100,000 (100 or fewer military dependent students).

Maximum Award: $2,500,000 (1,700 or more military dependent students).

Expected Dates

• Full Applications Available: On or about February 22, 2012.

• *Live Technical Assistance Webinar #1: March 8, 2012, 3 p.m. ET.

• *Live Technical Assistance Webinar #2: March 9, 2012, 11 a.m. ET.

• Deadline for Intent to Apply (optional): March 14, 2012.

• Deadline for Transmittal of Applications through www.grants.gov: April 13, 2012, 11:59 p.m. ET.

• Grants Awarded: On or about June 1, 2012.

*See application instructions on www.grants.gov for information on how to access the webinars.

Evaluation Criteria

The Project Narrative may not exceed 15 pages in length. The Project Narrative describes, in sufficient detail, how the project will be implemented and includes the Evaluation Criteria in Sections A-F below. The application will be reviewed and scored according to the quality of the responses to the requirements in Sections A-F. The Project Narrative, with all sections included, may be no longer than 15 pages.

Section A: Needs Assessment (10 points)

• Provide relevant school district data or background information, including the connection to the military installation(s).

• State student achievement needs and/or lack of educational opportunities at target schools.

• Cite multiple sources, primarily quantitative data, to confirm the need.

• Explain why current or past efforts failed to resolve the need, if applicable.

• Include other relevant information, e.g., the consequences of not addressing the need.

Section B: Project Goals (10 points)

• Include goals that (1) relate to the program's purpose, (2) lead to the desired results, and (3) are achievable through the project's interventions and strategies.

• Express goals broadly, such as: Increase K-5 student achievement in mathematics. Applications should have one goal related to each program area selected, with the recommendation that no more than two program areas are chosen.

• Include outcomes that are (1) measurable and reasonable and (2) related to baseline school, district, and state data as well as the relevant literature.

• Specify outcome timeframes, measurement tools, and target populations. Measurement tools should be an above school-level assessment(s), such as norm- or criterion-referenced standardized state or national test. The baseline should be referenced. The timeframe should be sufficient for strategies to achieve the expected results. Consider the following example of an outcome:

By June 2015, __ percent of the __ grade students in the target schools will score proficient or above on the state ________ assessment, an increase of __ percent over the SY10-11 level.

• Interim outcomes are tied to the goal and are presented as specific measurements that assess each year of the project. Typically, each goal will have multiple interim outcomes.

By the end of SY11-12, ___ percent of the __ grade students in the target schools will score proficient or above on the state ________ assessment, an increase of __ percent over the SY10-11 average.

Notes:

—Grantees may have many goals, however it is highly recommended to design a project that includes manageable and reasonable data collection and reporting. DoDEA requires quarterly reporting so the greater the number of goals, the more complex and burdensome the evaluation and reporting becomes.

—With academic programs, the measuring tool is usually a state assessment. For some programs, such as PK-2 Academic and Support, other measuring tools must be selected.

—For goals assessed by changes in attitude or behavior, grantees should use validated surveys or scales. Be aware that baseline measurements for the target population must be taken in order to be able to document changes as a result of project activities.

Section C: Project Plan (30 points)

• Include strategies that have demonstrated effectiveness in improving student achievement in the core curricular areas. The research base should be summarized in this section and details, including references and links should be provided in the appended bibliography.

• Address the issues identified in the needs assessment. If applicable, an explanation of how the project fits into the district or school's improvement plan or the LEA's strategic plan should be included.

• Incorporate strategies for sustained professional development/capacity building related to each program area goal.

Notes:

—The strategies, actions, and a timeline for each goal should be presented. Strategies should work as interrelated parts of a whole.

—Actions are specific steps to accomplish the strategies that occur at specific times and usually involve direct services to students, educators, or other stakeholders. Strategies must be aligned with the goals and outcomes listed above. A well-written strategy section should answer:

1. What strategies are employed?

2. Why were the strategies selected?

3. How will the strategies help achieve the stated outcomes?

4. What evidence shows the strategies to be effective?

5. If applicable, how will the strategies work together to achieve the outcomes?

• Describe actions for each strategy. The section outlining actions may be framed with a chart shown in the example below. Charts may use a 10-point font.

Strategies | Actions
EXAMPLE Goal 1: Improve <grade levels> student achievement in <curricular area>
#1: Strategy Name: Teacher professional development | 1. Use of Professional Learning Teams for student data analysis.
| 2. Professional development to improve teacher content knowledge.
#2: Strategy Name: Added technology to curriculum | 1. Ongoing job embedded coaching in instructional technology.
| 2. Benchmark assessments for students.
| 3. Pre and Post survey of students' technology skills.

• Create an implementation timeline for each goal using the model shown below. Costs may be broken down by actions or by strategies (as shown by the partially completed example below). In-kind/matching costs are not required, but should be included if they will be used for this program. When grant funds are listed, the dollar amount is required. If in-kind/matching costs are included, please cite their purpose, source, and amount for example, In-kind Professional Development, $25,000.

EXAMPLE Category | Start date | End date | Point of contact | Costs
Goal 1: Title | Improve <grade levels> student achievement in <curricular area>
Strategy 1, Action 1 |  |  |  | Grant: In-kind/Matching:
Strategy 1, Action 2 |  |  |
Strategy 2, Action 1 |  |  |  | Grant: In-kind/Matching:
Strategy 2, Action 2 |  |  |
Strategy 2, Action 3 |  |  |

Section D: Project Evaluation (30 points)

• Include (1) the fidelity of program implementation, (2) formative or process evaluation activities that provide information to guide program improvement, and (3) a summative evaluation to assess how the outcomes have addressed the academic needs. The evaluation should help shape the project from inception. The evaluation plan must:

1. Pose questions, in each of the three areas above that the evaluation will answer.

2. Describe the data and the data collection process (including multiple sources).

3. Describe how the data will be analyzed.

4. Identify who will conduct the evaluation.

5. Indicate what resources will be expended in the evaluation.

6. Explain how the data will be used, particularly to inform decisions involving curriculum and instruction at the classroom, school, and/or district levels.

Notes:

—The evaluation concept should provide a broad framework regarding the data collection sources, the available resources, and how the data will inform decisions involving curriculum and instruction at the classroom, school and/or system levels.

—Data collection instruments should include standardized forms (such as validated surveys and assessment protocols) wherever possible.

—Grantees must disaggregate data at the school level for the military student population.

—Grantees will be required to submit quarterly reports regarding evaluation activities.

—Three percent of total grant funds must be spent on a third-party/external evaluator.

Section E: Management Plan (10 points)

• Indicate the Project Director who will be responsible for day-to-day management of the grant.

• Provide information on the qualifications of all project leader(s), including their role and responsibilities relative to the strategies and actions, and estimated time commitment to the project.

• The third-party evaluator's qualifications and roles should be briefly described.

• Append résumés of project leaders—each being 1-2 pages in length. If the third-party evaluator has not been determined, then his or her role and qualifications should be described.

Section F: Budget Narrative and Sustainability (10 points)

• Align budget with proposed project plan, goals, and activities.

• Provide a narrative justification for the items included in the proposed budget.

• Describe existing resources and other support the LEA expects to receive for the proposed project.

• Identify how project leaders will track budget expenditures.

• Describe how project activities will be sustained after completion of the grant period.

Notes:

—For budgeting purposes, the grant years are:

Year 1: June 1, 2012-August 31, 2013.

Year 2: September 1, 2013-August 31, 2014.

Year 3: September 1, 2014-August 31, 2015.

Review and Selection Process

MCASP applications are peer reviewed according to the evaluation criteria listed above. Applications may receive a maximum score of 110 points.

Narrative (15-page maximum) | Points
Needs Assessment | 10
Project Goals | 10
Project Plan | 30
Project Evaluation | 30
Management | 10
Budget Narrative and Sustainability | 10
Priority 1: High concentration of military dependent students | 5
Priority 2: New applicants | 5
Total | 110

Decisions to fund a grant are based on:

• Strengths and weaknesses of the application as identified by peer reviewers

• Availability of funds

• Equitable distribution of awards in terms of geography, Branches of Service, repeat awardees, or other factors.

Required Application Components

Applications must include the required 10 application components.

Cover page: Cover page must include contact information, names of military installations served, focus areas, enrollment data, and authorized signature.

Abstracts: Both a 50-word and a 200-word abstract are required. Abstracts must provide a clear overview of the project's purpose, design, and goals. Both abstracts may be placed on the same page in the application.

Table of Contents: Proposals should include an accurate Table of Contents.

Project Narrative: The project narrative must not exceed 15 pages (excluding supporting documents and appendices) and should include all sections listed under the Evaluation Criteria section of this announcement.

Supporting documents: Supporting documents should include needs assessment data, résumés of key personnel, and bibliography. Letters of support may be included.

Evaluation design matrix: The evaluation design matrix illustrates goals and strategies as outlined in the evaluation plan.

Budget Table: Proposals must include a detailed budget.

SF 424: Standard Form 424—Application for Federal Assistance is required.

SF 424A: Standard Form 424A—Budget Information for Non-Construction Programs is required. All sections on this form must be completed. Totals should match the detailed budget.

SF 424B: Standard Form 424B—Assurances for Non-Construction Programs is required.

Certifications: Applicants must complete the Certification Regarding Lobbying form and the Certification regarding Debarment, Suspension, and Other Responsibility Matters (www.grants.gov).

Funding Requirements

Cost sharing: Cost sharing/matching funds are not required in this program.

Indirect costs: No grant funds may be allocated to administrative or indirect costs. Indirect costs are those incurred for a common or joint purpose benefiting more than one cost objective, and not readily assignable to the cost objectives specifically benefitted, without effort disproportionate to the results achieved. For further information, see OMB Circular A-87 -Attachment B.

Personnel: Up to 25 percent of Federal funds may be allocated to full-time equivalent (FTE) positions. However, proposed budgets that exceed 25 percent for FTE personnel may be considered. The term, full-time equivalent (FTE), usually refers to fully benefited positions. For grant purposes, the funding category, Personnel, includes FTE and non-FTE positions/costs. Examples of non-FTE personnel costs include stipends for teachers, wages to afterschool tutors, and costs for substitute teachers. FTE and non-FTE positions must be clearly delineated on the detailed budget (Appendix C).

Fringe benefits: Although fringe benefits for grant-funded FTE positions are an allowable cost, no grants funds may be allocated for administrative or indirect costs. Fringe Benefits are defined as costs in the form of employer contributions or expenses for social security; employee life, health, unemployment, and worker's compensation insurance (except as indicated in OMB Circular A-87 (Attachment B, No. 22)), and other similar benefits for employees expected to work solely on this grant.

Equipment: “Equipment means tangible, nonexpendable, personal property having a useful life of more than one year and an acquisition cost of $5,000 or more per unit. A grantee may use its own definition of equipment provided that such definition would at least include all equipment defined above.” See DoD 3210.6-Rs 33.3 for additional information.

Evaluation: DoDEA requires that at least three percent of grant funds will be spent on a third-party evaluator. The third-party evaluator may not be a current employee of the LEA.

Grant meeting: In the Year 1 budget, LEAs must include $3,000 for the project director and the third-party evaluator to attend a two-day meeting, which is expected to occur in September 2012. Any funds not expended for the meeting may be realigned in the grant for other grant usage. Note: An LEA located outside the continental United States may wish to budget additional funds.

Submission Requirements

Applications are due Friday, April 13, 2012, by 11:59 p.m. (Eastern Time). All applications must be submitted electronically through www.grants.gov by the deadline. Applications received after the deadline will not be considered.

The following standards should be followed:

A page is 8.5″ x 11″, one side only, with 1″ margins at the top, bottom, and both sides.

Single space all text in the application narrative, including titles, headings, footnotes, quotations, references, and captions, as well as all text in charts, tables, figures, and graphs.

Use a 12-point font; titles may be larger; charts may use a 10-point font.

Use one of the following fonts: Times New Roman, Courier, Courier New, or Arial. An application submitted in any other font (including Times Roman or Arial Narrow) may not be accepted.

Proposal Compliance

Failure to adhere to deadlines to be specified in the forthcoming application may result in proposal rejection. Any proposal received after the exact time and date specified for receipt will not be considered. DoDEA, at its sole discretion, may accept a late proposal if it determines that no advantage has been conferred and that the integrity of the grants process will not be compromised.

Dated: March 1, 2012.
Aaron Siegel,
Alternate OSD Federal Register Liaison Officer, Department of Defense.

[FR Doc. 2012-5456 Filed 3-6-12; 8:45 am]

BILLING CODE 5001-06-P